PENSION BENEFIT GUARANTY CORPORATION

Privacy Act of 1974, System of Records

AGENCY: Pension Benefit Guaranty Corporation.

ACTION: Notice of new system of records.

SUMMARY: This document provides notice of a proposed new Privacy Act system of records. The Pension Benefit Guaranty Corporation (PBGC) is establishing a new system of records entitled “PBGC-17, Office of Inspector General Investigative File System—PBGC,” subject to the Privacy Act of 1974, as amended. The information from the new system of records will be used by the PBGC's Office of Inspector General to conduct criminal, civil, and administrative investigations, and will contain identifying information about potential subjects and sources.

DATES: Comments on the new system of records and proposed routine uses must be received on or before April 29, 2009. The new system of records will become effective on May 14, 2009 without further notice, unless comments result in a contrary determination and a notice is published to that effect.

ADDRESSES: Comments may be submitted by any of the following methods:

• Federal eRulemaking Portal: http://www.regulations.gov. Follow the Web site instructions for submitting comments.

• E-mail: reg.comments@pbgc.gov.

• Fax: 202-326-4224.

• Mail or Hand Delivery: Legislative and Regulatory Department, Pension Benefit Guaranty Corporation, 1200 K Street, NW., Washington, DC 20005-4026.

Comments received, including personal information provided, will be posted to http://www.pbgc.gov. Copies of comments may also be obtained by writing to Disclosure Division, Office of General Counsel, Pension Benefit Guaranty Corporation, 1200 K Street, NW., Washington, DC 20005-4026, or calling 202-326-4040 during normal business hours. (TTY and TDD users may call the Federal relay service toll-free at 1-800-877-8339 and ask to be connected to 202-326-4040.)

FOR FURTHER INFORMATION CONTACT: Margaret E. Drake, Attorney, Office of the General Counsel, Pension Benefit Guaranty Corporation, 1200 K Street, NW., Washington, DC 20005, 202-326-4400 (extension 3228); or James Bloch, Program Analyst, Legislative & Regulatory Department; 202-326-4223 (extension 3530). (For TTY/TDD users, call the federal relay service toll-free at (800) 877-8339 and ask to be connected to 202-326-4400 (extension 3228) or 202-326-4223 (extension 3530).)

SUPPLEMENTARY INFORMATION: PBGC is proposing to establish a new system of records entitled “PBGC-17, Office of Inspector General Investigative File System—PBGC.” (PBGC's proposed rule on disclosure and amendment of records pertaining to individuals under the Privacy Act appears elsewhere in today's Federal Register.) The proposed system of records is necessary to the functions performed by the Office of Inspector General (OIG), and will cover only those files of investigation that identify by name, or other personal identifier, individuals who are subjects of investigations or sources of information. The files may contain information about civil, criminal, or administrative wrongdoing, or about fraud, waste, or mismanagement, or other violations of law or regulation. This information could be the basis for referrals to appropriate prosecutorial authorities for consideration of criminal or civil prosecution or to PBGC management for administrative corrective action. OIG, as it has always done, will continue to respect the privacy of individuals named in these files and will disclose, within the boundaries of the law, the least amount of information necessary to perform its law-enforcement responsibilities.

The collection and maintenance of records subject to this system are not new because records of the same type have been collected and maintained in the OIG since its establishment in 1989. Those records, however, were not maintained or retrieved by a name or other personal identifier. With the implementation of an electronic records management system, these records will now be in a system of records, as defined in The Privacy Act Implementation: Guidelines and Responsibilities, 40 FR 28,498 (July 9, 1975). Electronic information will be kept in an environment with physical and logical security, including encryption of information on external computer media. Computers and hard copy records are maintained in a secured environment.

Pursuant to 5 U.S.C. 552a(e)(11), interested persons are invited to submit written comments on this proposal. A report on the following proposed system has been sent to Congress and the Office of Management and Budget for their evaluation.

Issued in Washington, DC, this 23rd day of March, 2009.
Vincent K. Snowbarger,
Acting Director, Pension Benefit Guaranty Corporation.

PBGC-17

SYSTEM NAME:

Office of Inspector General Investigative File System—PBGC.

SECURITY CLASSIFICATION:

Not applicable.

SYSTEM LOCATION:

Office of Inspector General, Pension Benefit Guaranty Corporation, 1200 K Street, NW., Washington, DC 20005-4026.

CATEGORIES OF INDIVIDUALS COVERED BY THE SYSTEM:

1. Persons who are named individuals in investigations conducted by OIG.

2. Complainants and subjects of complaints collected through the operation of the OIG Hotline.

3. Other individuals, including witnesses, sources, and members of the general public, who are named individuals in connection with investigations conducted by OIG.

CATEGORIES OF RECORDS IN THE SYSTEM:

Information within this system relates to OIG investigations carried out under applicable statutes, regulations, policies, and procedures. The investigations may relate to criminal, civil, or administrative matters. These OIG files may contain investigative reports; copies of financial, contractual, and property management records maintained by PBGC; background data including arrest records, statements of informants and witnesses, and laboratory reports of evidence analysis; search warrants, summonses and subpoenas; and other information related to investigations. Personal data in the system may consist of names, Social Security numbers, addresses, fingerprints, handwriting samples, reports of confidential informants, physical identifying data, voiceprints, polygraph tests, photographs, and individual personnel and payroll information.

AUTHORITY FOR MAINTENANCE OF THE SYSTEM:

5 U.S.C. App. 3.

PURPOSE(S):

This system of records is used to maintain information related to investigations of criminal, civil, or administrative matters.

ROUTINE USES OF RECORDS MAINTAINED IN THE SYSTEM, INCLUDING CATEGORIES OF USERS AND THE PURPOSES OF SUCH USES:

PBGC General Routine Uses G1, G2, G4, G5, and G7 listed in PBGC's Privacy Act of 1974; Systems of Records, 60 FR 57,462 (Nov. 15, 1995) apply to this system of records. In addition:

1. A record relating to a person held in custody pending or during arraignment, trial, sentence, or extradition proceedings or after conviction may be disclosed to a federal, state, local, or foreign prison; probation, parole, or pardon authority; or any other agency or individual involved with the maintenance, transportation, or release of such a person.

2. A record relating to a case or matter may be disclosed to an actual or potential party or his or her attorney for the purpose of negotiation or discussion on such matters as settlement of the case or matter, plea bargaining, or informal discovery proceedings.

3. A record may be disclosed to any source, either private or governmental, when reasonably necessary to elicit information or obtain the cooperation of a witness or informant when conducting any official investigation or during a trial or hearing or when preparing for a trial or hearing.

4. A record relating to a case or matter may be disclosed to a foreign country, through the United States Department of State or directly to the representative of such country, under an international treaty, convention, or executive agreement; or to the extent necessary to assist such country in apprehending or returning a fugitive to a jurisdiction that seeks that individual's return.

5. A record originating exclusively within this system of records may be disclosed to other federal offices of inspectors general and councils comprising officials from other federal offices of inspectors general, as required by the Inspector General Act of 1978, as amended. The purpose is to ensure that OIG audit and investigative operations can be subject to integrity and efficiency peer reviews, and to permit other offices of inspectors general to investigate and report on allegations of misconduct by senior OIG officials as directed by a council, the President, or Congress. Records originating from any other PBGC systems of records, which may be duplicated in or incorporated into this system, also may be disclosed with all personally identifiable information redacted.

6. A record may be disclosed to the Department of the Treasury and the Department of Justice when the OIG seeks an ex parte court order to obtain taxpayer information from the Internal Revenue Service.

7. A record may be disclosed to a “consumer reporting agency,” as that term is defined in the Fair Credit Reporting Act (15 U.S.C. 1681a(f)) and the Federal Claims Collection Act of 1966 (31 U.S.C. 3701(a)(3)), to obtain information in the course of an investigation, audit, or evaluations.

8. A record may be disclosed to any governmental, professional or licensing authority when such record reflects on qualifications, either moral, educational or vocational, of an individual seeking to be licensed or to maintain a license.

9. A record may be disclosed to any direct or indirect recipient of federal funds, e.g., a contractor, where such record reflects problems with the personnel working for a recipient, and disclosure of the record is made to permit a recipient to take corrective action beneficial to the Government.

POLICIES AND PRACTICES FOR STORING, RETRIEVING, ACCESSING, RETAINING, AND DISPOSING OF RECORDS IN THE SYSTEM:

STORAGE:

The information in the records is maintained in a variety of media, including paper, magnetic tapes or discs, and an automated database. The records are maintained in limited access areas during duty hours and in locked offices at all other times.

RETRIEVABILITY:

Records are indexed by name or other personal identifier, subject category, or assigned case number.

SAFEGUARDS:

Paper records, computers, and computer-storage media are located in controlled-access areas under supervision of program personnel. Access to these areas is limited to authorized personnel, who must be identified with a badge. Access to records is limited to individuals whose official duties require such access. Contractors and licensees are subject to contract controls and unannounced on-site audits and inspections. Computers are protected by mechanical locks, card-key systems, or other physical-access control methods. The use of computer systems is regulated with installed security software, computer-logon identifications, and operating-system controls including access controls, terminal and transaction logging, and file-management software.

RETENTION AND DISPOSAL:

1. Official investigative case files, evidence and custody files, and informant files are retained up to 11 years after closeout of the investigation. If significant, the files are transferred to the National Archives and Records Administration.

2. Information reports, investigative analysis reports, and inquiry files are retained up to 6 years after closeout of the investigation.

3. Internal administrative reports are retained up to 3 years after closeout of the investigation.

Records existing on paper are destroyed by burning, pulping, or shredding. Records existing on computer storage media are destroyed according to the applicable PBGC media sanitization practice.

SYSTEM MANAGER(S) AND ADDRESS:

Inspector General, Pension Benefit Guaranty Corporation, 1200 K Street, NW., Washington, DC, 20005-4026.

NOTIFICATION PROCEDURE:

Individuals wanting to know if information about them is maintained in this system of records must address inquiries to the system manager; include full name, address, and date of birth; and label the request “Privacy Act Request.” Inquiries must comply with the procedures in 29 CFR 4902.3.

RECORD ACCESS PROCEDURES:

Requests for access must be made in accordance with the Notification Procedure above and PBGC Privacy Act regulations regarding access to records and verification of identity under 29 CFR 4902.3.

CONTESTING RECORD PROCEDURES:

An individual wanting to contest or amend information maintained in the system should direct a request to the Disclosure Officer according to the procedures in 29 CFR 4902.3. In addition, the request should state clearly and concisely what information is being contested, the reasons for contesting it, and the proposed amendment to the information sought. See 29 CFR 4902.5.

RECORD SOURCE CATEGORIES:

The information contained in this system may be derived or received from individual complainants, witnesses, interviews conducted during investigations, Federal, state and local government records, individual or company records, claim and payment files, employer medical records, insurance records, court records, articles from publications, financial data, bank information, telephone data, insurers, service providers, other law enforcement organizations, grantees and subgrantees, contractors and subcontractors, and other sources.

SYSTEMS EXEMPTED FROM CERTAIN PROVISIONS OF THE ACT:

Pursuant to 5 U.S.C. 552a(j) and (k), PBGC has established regulations at 29 CFR 4902.11 that exempt records in this system depending on their purpose.

[FR Doc. E9-6972 Filed 3-27-09; 8:45 am]

BILLING CODE 7709-01-P